DEPARTMENT OF ENERGY

Federal Energy Regulatory Commission

[Docket No. RP00-169-000]

Natural Gas Pipeline Company of America; Notice of Technical Conference

April 4, 2000.

In the Commission's order issued on February 24, 2000,¹ the Commission directed that a technical conference be held to address issues raised by the filing.

¹ 90 FERC ¶ 61,182.

Take notice that the technical conference will be held on Wednesday, April 19, 2000, at 10:00 am, in a room to be designated at the offices of the Federal Energy Regulatory Commission, 888 First Street, NE, Washington, D.C. 20426.

All interested parties and Staff are permitted to attend.

Linwood A. Watson, Jr.,
Acting Secretary.

[FR Doc. 00-8756 Filed 4-7-00; 8:45 am]

BILLING CODE 6717-01-M